ENVIRONMENTAL PROTECTION AGENCY

[FRL-8981-8]

Proposed Reissuance of the NPDES General Permit for Concentrated Animal Feeding Operations (CAFOs) Located in the State of Idaho (IDG010000)

AGENCY: Environmental Protection Agency (EPA).

ACTION: Notice of proposed NPDES general permit reissuance.

SUMMARY: The Director, Office of Water and Watersheds, EPA Region 10 proposes to reissue the National Pollutant Discharge Elimination System (NPDES) General Permit for Concentrated Animal Feeding Operations (CAFOs) in the State of Idaho (permit), including Indian Country. As proposed, all animal feeding operations (AFOs) that meet the regulatory definition of a CAFO, discharge or propose to discharge, and are subject to 40 CFR Part 412 are eligible for coverage under the permit. Eligible CAFOs may apply for authorization under the terms and conditions of the permit by submitting a Notice of Intent (NOI) and nutrient management plan (NMP). Upon receipt, EPA will review the NOI and NMP to ensure that all permit requirements are met. If EPA makes a preliminary determination that the NOI is complete, the NOI, NMP, and draft terms of the NMP to be incorporated into the permit will be made available for a thirty (30) day public review and comment period. If determined appropriate by EPA, CAFOs will be granted coverage under the permit upon written notification by EPA.

Public Comment: EPA will be accepting public comments on the permit. Interested persons may submit written comments on the permit to the attention of Nicholas Peak at the address below. Copies of the permit and fact sheet are available upon request. These documents may also be downloaded from the Region 10 Web site at: http://yosemite.epa.gov/R10/water.nsf/NPDES+Permits/Permits+Homepage. All comments must include the name, address, and telephone number of the commenter and a concise statement of comment and the relevant facts upon which it is based. Comments of either support or concern which are directed at specific, cited permit requirements are appreciated. After the expiration date of the Public Notice on January 19, 2010, the Director, Office of Water and Watersheds, EPA Region 10, will consider all comments before making a final determination with respect to issuance of the permit.

DATES: Comments must be received by January 19, 2010.

ADDRESSES: Comments should be sent to: Director, Office of Water and Watersheds, U.S. EPA, Region 10, 1200 Sixth Avenue, Suite 900, M/S OWW-130, Seattle, Washington 98101. Comments may also be submitted via e-mail to the following address: peak.nicholas@epa.gov.

Public Meetings Dates and Locations

The public is invited to attend one of three public informational meetings that EPA is hosting to provide information on the permit and to answer any questions concerning the permit. These public meetings are not public hearings as set forth in 40 CFR 124.12. The informational meetings will be held at the following dates/locations: Idaho Department of Fish and Wildlife, South Regional Office, 1345 Barton Road, Pocatello, ID 83204, December 8, 2009, 1 p.m.-5 p.m.; Idaho Department of Fish and Game, Magic Valley Regional Office, 324 South 417 East, #1, Jerome, ID 83338, December 9, 2009, 10 a.m.-2 p.m.; Idaho Department of Fish and Game, Southwest Regional Office, 3101 S. Powerline Road, Nampa, ID 83686, December 10, 2009, 10 a.m.-2 p.m.

FOR FURTHER INFORMATION CONTACT: Additional information can be obtained by contacting Mr. Nicholas Peak at the following address/phone number: U.S. EPA, Region 10, Idaho Operations Office, 1435 N. Orchard Street, Boise, Idaho 83706; Telephone: (208) 378-5765. In addition, additional information is available on the EPA Region 10 Web site at: http://yosemite.epa.gov/R10/water.nsf/NPDES+Permits/Permits+Homepage.

SUPPLEMENTARY INFORMATION: An existing permit, NPDES Permit No. IDG010000 (existing permit), was previously reissued on May 27, 1999 and expired on May 27, 2002. The existing permit was administratively extended and will remain in effect until a new permit is reissued for those discharges which were covered at the time of expiration. The existing permit authorizes discharges of process wastewater from all operations classified as a CAFO in the State of Idaho. EPA proposes to replace the existing permit with the permit numbered as IDG010000. The permit adds additional requirements contained in the revised CAFO regulations at 40 CFR parts 122 and 412 which were published in the Federal Register at 73 FR 70418 (November 20, 2008.) The permit adds new requirements relating to NMPs for permitted CAFOs. CAFO owners or operators were required to develop and implement NMPs under the 2003 rule; the 2008 rule now requires CAFO owners or operators to submit their facility's NMPs along with the NOI. EPA Region 10, as the permitting authority, will review the NMPs submitted with the NOIs and will establish the terms of the NMP that are enforceable elements of the permit. EPA Region 10 will provide the public with an opportunity for meaningful review and comment on the NMPs and the terms of the NMPs will be incorporated into the permit.

Regulated entities. The permit regulates discharges from CAFOs located in the State of Idaho including Indian Country. To determine whether your facility, company, business, organization, etc., may be affected by today's action, you should carefully examine the applicability criteria in Part I of the permit. Questions on the permit's application to specific facilities may also be directed to Mr. Peak at the telephone number or address listed above.

State Certification. Section 401 of the Clean Water Act, 33 U.S.C. 1341 requires EPA to seek a certification from the State that the conditions of the permit are stringent enough to comply with State water quality standards. EPA obtained a draft certification from the Idaho Department of Environmental Quality (IDEQ) on October 6, 2009. EPA intends to seek a final certification from IDEQ prior to issuing the final permit. When IDEQ issues certification, it may impose more stringent conditions than are currently included in the permit to ensure compliance with State water quality standards.

National Environmental Policy Act. The National Environmental Policy Act (NEPA) requires EPA to conduct an environmental review for new source NPDES permit actions pursuant to the Council on Environmental Quality (CEQ) regulations at 40 CFR Parts 1500-1508 and EPA's NEPA implementing regulations at 40 CFR Part 6. NEPA requirements must be complied with prior to allowing permit coverage of new sources (i.e. Large CAFOs whose construction began after April 14, 2003). New sources seeking permit coverage must submit an Environmental Information Document (EID) or Draft Environmental Assessment (EA) along with their Notice of Intent (NOI) and Nutrient Management Plans (NMPs) pursuant to the requirements at 40 CFR 6.200(g)(2) and 40 CFR Part 6, Subpart C.

Endangered Species Act. Section 7 of the Endangered Species Act requires Federal agencies to consult with the National Marine Fisheries Service (NMFS) and the U.S. Fish and Wildlife Service (USFWS) if their actions have the potential to either beneficially or adversely affect any threatened or endangered species. EPA has determined that the permit is not likely to adversely affect any threatened or endangered species. The fact sheet and the permit will also be submitted to NMFS and USFWS for review during the public comment period. EPA will obtain concurrence with its determination from NMFS and USFWS prior to issuing the final permit.

Executive Order 12866. The Office of Management and Budget has exempted this action from the review of requirements of Executive Order 12866 pursuant to Section 6 of that order.

Paperwork Reduction Act. The information collection requirements of this permit were previously approved by the Office of Management and Budget (OMB) under the provisions of the Paperwork Reduction Act, 44 U.S.C. 3501 et seq. and assigned OMB control number: 2040-0250 for NPDES Form 2B (NPDES permit application).

Regulatory Flexibility Act. After review of the facts presented in the notice of intent, permit and fact sheet, the Administrator of EPA certifies, pursuant to the provisions of 5 U.S.C. 605(b), that this permit will not have a significant impact on a substantial number of small entities. Moreover, the permit reduces a significant administrative burden on regulated sources.

Unfunded Mandates Reform Act. Section 201 of the Unfunded Mandates Reform Act (UMRA), Public Law 104-4, generally requires Federal agencies to assess the effects of their “regulatory actions” [defined to be the same as “rules” subject to the RPA] on Tribal, State and local governments, and the permit issued today is not a “rule” subject to the RFA, and is therefore not subject to the UMRA.

Dated: November 6, 2009.
Michael A. Bussell,
Director, Office of Water and Watersheds, Region 10.

[FR Doc. E9-27825 Filed 11-18-09; 8:45 am]

BILLING CODE 6560-50-P